DEPARTMENT OF ENERGY

Federal Energy Regulatory Commission

Notice of Commission Staff Attendance

The Federal Energy Regulatory Commission hereby gives notice that members of the Commission's staff may attend the following meeting related to the transmission planning activities of ISO New England Inc., New York Independent System Operator, Inc., and PJM Interconnection, L.L.C.:

Electric System Planning Working Group

October 24, 2012, 10:00 a.m. to 4:00 p.m., Local Time

November 1, 2012, 10:00 a.m. to 4:00 p.m., Local Time

December 14, 2012, 10:00 a.m. to 4:00 p.m., Local Time

Joint Inter-Regional Planning Task Force/Electric System Planning Working Group

November 29, 2012, 10:00 a.m. to 2:00 p.m., Local Time

December 18, 2012, 11:00 a.m. to 4:00 p.m., Local Time

Management Committee

October 31, 2012, 10:00 a.m. to 4:00 p.m., Local Time

November 28, 2012, 10:00 a.m. to 4:00 p.m., Local Time

December 19, 2012, 10:00 a.m. to 4:00 p.m., Local Time

January 30, 2013, 10:00 a.m. to 4:00 p.m., Local Time

February 27, 2013, 10:00 a.m. to 4:00 p.m., Local Time

March 27, 2013, 10:00 a.m. to 4:00 p.m., Local Time

The above-referenced Joint Inter-Regional Planning Task Force/Electric System Planning Working Group and Management Committee meetings will be held at: NYISO's offices, Rensselaer, NY.

The above-referenced meetings are open to stakeholders.

Further information may be found at www.nyiso.com.

The discussions at the meetings described above may address matters at issue in the following proceedings:

Docket No. ER08-1281, New York Independent System Operator, Inc.

Docket No. ER12-718, New York Independent System Operator, Inc.

For more information, contact James Eason, Office of Energy Market Regulation, Federal Energy Regulatory Commission at (202) 502-8622 or James.Eason@ferc.gov.

Dated: October 12, 2012.
Kimberly D. Bose,
Secretary.

[FR Doc. 2012-25684 Filed 10-18-12; 8:45 am]

BILLING CODE 6717-01-P